DEPARTMENT OF COMMERCE

International Trade Administration

[A-570-601]

Tapered Roller Bearings and Parts Thereof, Finished and Unfinished, From the People's Republic of China; Notice of Extension of Time Limit for 2000-2001 Administrative Review

AGENCY: Import Administration, International Trade Administration, Department of Commerce.

ACTION: Notice of Extension of Time Limit.

SUMMARY: The Department of Commerce is extending the time limit for the preliminary results of the fourteenth review of the antidumping duty order on tapered roller bearings and parts thereof, finished and unfinished, from the People's Republic of China. The period of review is June 1, 2000 through May 31, 2001. This extension is made pursuant to section 751(a)(3)(A) of the Tariff Act of 1930, as amended by the Uruguay Round Agreements Act.

DATES: February 7, 2002.

FOR FURTHER INFORMATION CONTACT: Melani Miller or Andrew Smith, Import Administration, International Trade Administration, U.S. Department of Commerce, 14th Street and Constitution Avenue, NW, Washington DC 20230; telephone (202) 482-0116 or (202) 482-1276, respectively.

Applicable Statute

Unless otherwise indicated, all citations to the statute are references to the provisions effective January 1, 1995, the effective date of the amendments made to the Tariff Act of 1930 (“the Act”) by the Uruguay Round Agreements Act, and all citations to the regulations are to 19 CFR Part 351 (2001).

Statutory Time Limits

Section 751(a)(3)(A) of the Act requires the Department to issue the preliminary results of an administrative review within 245 days after the last day of the anniversary month of an order for which a review is requested and a final determination within 120 days after the date on which the preliminary results are published. However, if it is not practicable to complete the review within the time period, section 751(a)(3)(A) of the Act allows the Department to extend these deadlines to a maximum of 365 days and 180 days, respectively.

Background

On July 23, 2001, the Department published a notice of initiation of administrative review of the antidumping duty order on tapered roller bearings and parts thereof, finished and unfinished (“TRBs”) from the People's Republic of China, covering the period June 1, 2000, through May 31, 2001 (65 FR 38252). The preliminary results for the antidumping duty administrative review of TRBs from the People's Republic of China are currently due no later than March 4, 2002.

Extension of Time Limits for Preliminary Results

Due to the number of companies and complexity of the issues, it is not practicable to complete this review within the originally anticipated time limit (i.e., March 4, 2002). See Memorandum from Team to Richard W. Moreland, “Extension of Time Limit for Preliminary Results,” dated, February 1, 2001. Therefore, the Department of Commerce is extending the time limit for completion of the preliminary results to not later than June 30, 2002, in accordance with section 751(a)(3)(A) of the Act.

We are issuing and publishing this notice in accordance with sections 751(a)(1) and 777(i)(1) of the Act.

February 1, 2002.
Richard W. Moreland,
Deputy Assistant Secretaryfor AD/CVD Enforcement.

[FR Doc. 02-2991 Filed 2-6-02; 8:45 am]

BILLING CODE 3510-DS-S